DEPARTMENT OF THE INTERIOR

Bureau of Indian Affairs

Tribal Consultation on Indian Education Topics

AGENCY: Bureau of Indian Affairs, Interior.

ACTION: Notice of tribal consultation meetings.

SUMMARY: This notice announces that the Bureau of Indian Affairs (BIA) will conduct consultation meetings to obtain oral and written comments concerning potential issues in Indian Education Programs. The potential issues will be set forth and described in a tribal consultation booklet to be issued before the meetings by the Office of Indian Education Programs (OIEP). The proposed topics are: implementation of a recommendation proposed by the General Accounting Office (GAO) to modify the accounting codes used for the expenditure of funds in schools; developing a high school curriculum to provide high schools students with essential life skills and financial management training to better prepare them for success as adults; establishing a pilot school to test an alternative school model for a Center of Excellence (Leadership Academy) designed to provide students with additional training in leadership; and the upcoming Facility Maintenance and Construction Negotiated Rulemaking, as required by Public Law 107-110, Sec. 1125, 115 Stat 2021.

DATES: August 16 through 21, 2004, for all locations listed. All meetings will begin at 9 a.m. and continue until 3 p.m. (local time) or until all meeting participants have an opportunity to make comments.

ADDRESSES: Send or hand-deliver written comments to Edward Parisian, Director, Office of Indian Education Programs, Bureau of Indian Affairs, MS Room 3512-MIB, 1849 C St., NW., Washington, DC 20240. Submissions by facsimile should be sent to (202) 273-0030.

FOR FURTHER INFORMATION CONTACT: Mr. Garry Martin, (202) 208-2472.

SUPPLEMENTARY INFORMATION: The meetings are a follow-up to similar meetings conducted by the OIEP/BIA since 1990. The purpose of the consultation, as required by 25 U.S.C. 2011(b), is to provide Indian tribes, school boards, parents, Indian organizations and other interested parties with an opportunity to comment on potential issues raised during previous consultation meetings or being considered by the BIA on Indian education programs.

Meeting Schedule
Date | Location | Local Contact | Phone Numbers
August 16 | Minneapolis, MN | Terry Portra | (612) 713-4400 ext. 1090
August 16 | Portland, OR | John Reimer | (503) 872-2743
August 17 | Gallup, NM | Beatrice Woodward | (505) 786-6152
August 17 | Nashville, TN | Ernest Clark | (615) 695-4101
August 18 | Aberdeen, SD | Dr. Cherie Farlee | (605) 964-8722
August 18 | Billings, MT | Levon French | (406) 247-7953
August 19 | Phoenix, AZ | Kevin Skenandore | (928) 338-5442
August 19 | Oklahoma City, OK | Joy Martin | (405) 605-6051
August 20 | Sacramento, CA | Fayetta Babby | (916) 978-6058
August 20 | Albuquerque, NM | Dr. Jennie Jimenez | (505) 753-1465

A consultation booklet for the meetings is being distributed to federally-recognized Indian tribes, Bureau Regional and Agency Offices and Bureau-funded schools. The booklets will also be available from local contact persons at each meeting.

Public Comment Availability

Comments, including names, street addresses, and other contact information of respondents, will be available for public review at the address listed under the ADDRESSES section during regular business hours (7:45 a.m. to 4:15 p.m. e.s.t.), Monday through Friday, except Federal holidays. Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

Authority

This notice is published in accordance with the authority delegated by the Secretary of the Interior to the Principal Deputy Assistant Secretary—Indian Affairs by 209 DM 8.1.

Dated: July 13, 2004.
Aurene M. Martin,
Principal Deputy Assistant Secretary—Indian Affairs.

[FR Doc. 04-16615 Filed 7-20-04; 8:45 am]

BILLING CODE 4310-6W-P